ENVIRONMENTAL PROTECTION AGENCY

40 CFR Part 52

[EPA-R08-OAR-2020-0002; FRL-10009-92-Region 8]

Determination of Attainment by the Attainment Date for the Salt Lake City, Utah and Provo, Utah 2006 24-Hour PM2.5 Nonattainment Areas

AGENCY: Environmental Protection Agency (EPA).

ACTION: Proposed rule.

SUMMARY: The Environmental Protection Agency (EPA) is proposing a determination of attainment by the attainment date for the 2006 24-hour fine particulate matter (PM2.5) Salt Lake City, Utah (Salt Lake City) and Provo, Utah (Provo) Serious nonattainment areas (NAAs). The determination is based upon quality-assured, quality-controlled and certified ambient air monitoring data showing that the area has attained the 2006 24-hour PM2.5 National Ambient Air Quality Standards (NAAQS) based on the 2017-2019 data available in the EPA's Air Quality System (AQS) database.

DATES: Written comments must be received on or before July 8, 2020.

ADDRESSES: Submit your comments, identified by Docket ID No. EPA-R08-OAR-2020-0002, to the Federal Rulemaking Portal: https://www.regulations.gov. Follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

Docket: All documents in the docket are listed in the www.regulations.gov index. Although listed in the index, some information is not publicly available, e.g., CBI or other information whose disclosure is restricted by statute. Certain other material, such as copyrighted material, will be publicly available only in hard copy. Publicly available docket materials are available electronically in www.regulations.gov. To reduce the risk of COVID-19 transmission, for this action we do not plan to offer hard copy review of the docket. Please email or call the person listed in the FOR FURTHER INFORMATION CONTACT section if you need to make alternative arrangements for access to the docket.

FOR FURTHER INFORMATION CONTACT: Crystal Ostigaard, Air and Radiation Division, EPA, Region 8, Mailcode 8ARD-QP, 1595 Wynkoop Street, Denver, Colorado 80202-1129, (303) 312-6602, ostigaard.crystal@epa.gov.

SUPPLEMENTARY INFORMATION: Throughout this document wherever “we,” “us,” or “our” is used, we mean the EPA.

I. Background

A. Designation and Classification of PM2.5 Nonattainment Areas

On October 17, 2006 (71 FR 61144), the EPA revised the level of the 24-hour PM2.5 NAAQS, lowering the primary and secondary standards from the 1997 standard of 65 micrograms per cubic meter (µg/m³) to 35 µg/m³. The EPA retained the form of the 1997 24-hour standard, that is, the 98th percentile of the annual 24-hour concentrations at each population-oriented monitor within an area, averaged over 3 years. See 71 FR 61164-5 (October 17, 2006).

On November 13, 2009 (74 FR 58688), the EPA designated a number of areas as nonattainment for the 24-hour PM2.5 NAAQS of 35 µg/m³, including the Salt Lake City and Provo NAAs. The EPA originally designated these areas under the general provisions of Clean Air Act (CAA) title I, part D, subpart 1 (“subpart 1”), under which attainment plans must provide for the attainment of a specific NAAQS (in this case, the 2006 PM2.5 standards) as expeditiously as practicable, but no later than 5 years from the date the areas were designated nonattainment.

Subsequently, on January 4, 2013, the U.S. Court of Appeals for the District of Columbia Circuit held in NRDC v. EPA that the EPA should have implemented the 2006 24-hour PM2.5 standard based on both the general NAA requirements in subpart 1 and the PM-specific requirements of CAA title I, part D, subpart 4 (“subpart 4”). In response to the Court's decision in NRDC v. EPA, on June 2, 2014 (79 FR 31566), the EPA finalized the “Identification of Nonattainment Classification and Deadlines for Submission of State Implementation Plan (SIP) Provisions for the 1997 Fine Particulate (PM2.5) NAAQS and 2006 PM2.5 NAAQS.” This rule classified the areas that were designated in 2009 as nonattainment to Moderate and set the attainment SIP submittal due date for those areas at December 31, 2014.

After the court's decision, on December 16, 2014, the Utah Division of Air Quality (UDAQ) withdrew all prior Salt Lake City and Provo PM2.5 SIP submissions and submitted a new SIP to address both the general requirements of subpart 1 and the PM-specific requirements of subpart 4 for Moderate areas.

On August 24, 2016, the EPA finalized the Fine Particulate Matter National Ambient Air Quality Standards: State Implementation Plan Requirements (“PM2.5 SIP Requirements Rule”), 81 FR 58010, which addressed the January 4, 2013 court ruling. The final PM2.5 SIP Requirements Rule provides the EPA's interpretation of the requirements applicable to PM2.5 NAAs and explains how air agencies can meet the statutory SIP requirements that apply under subparts 1 and 4 to areas designated nonattainment for any PM2.5 NAAQS.

B. Reclassification of Salt Lake City and Provo Nonattainment Area

CAA section 188(b)(2) requires the EPA to determine whether any PM2.5 NAA classified as “Moderate” attained the relevant PM2.5 standard by the area's attainment date and requires EPA to make such determination within 6 months after that date.¹ The CAA requires that a Moderate area that has not attained the standard by the relevant attainment date be reclassified to “Serious.”

¹ An area's highest design value for the 24-hour PM2.5 NAAQS is the highest of the 3-year average of annual 98th percentile 24-hour average PM2.5 mass concentration values recorded at each eligible monitoring site (40 CFR part 50, appendix N, 1.0(c)(2)).

On May 10, 2017 (82 FR 21711), the EPA finalized the determination that the Salt Lake City and Provo PM2.5 NAAs failed to attain by the Moderate area attainment date of December 31, 2015 and were reclassified to Serious PM2.5 NAAs. A Serious PM2.5 NAA is required to attain the standard as expeditiously as practicable, but no later than by the

end of the tenth year after designation (December 31, 2019).

II. EPA Evaluation

A. Determination of Attainment by the Attainment Date

Under CAA section 188(c)(2), the EPA is required to determine within 6 months of the applicable attainment date whether a NAA attained the standard by that date. The 2006 primary and secondary 24-hour PM2.5 NAAQS are met when the 24-hour PM2.5 NAAQS design value at each eligible monitoring site is less than or equal to 35 µg/m³. See 40 CFR 50.13 and 40 CFR part 50, appendix N, section 4.2. For the 24-hour PM2.5 standards, appendix N defines eligible monitoring sites as those that meet the technical requirements in 40 CFR 58.11 and 58.30. Three years of valid annual PM2.5 98th percentile mass concentrations are required to produce a valid 24-hour PM2.5 NAAQS design value. A year meets data completeness requirements when quarterly data capture rates for all four quarters are at least 75%. Nonetheless, where the 75% data capture requirement is not met, the 24-hour PM2.5 NAAQS design value shall still be considered valid if it passes the maximum quarterly value data substitution test.

In accordance with the EPA regulations at 40 CFR part 50, appendix N, a finding of attainment of the 2006 24-hour PM2.5 NAAQS must be based upon complete, quality-assured data gathered at established state and local air monitoring stations (SLAMS) and national air monitoring stations (NAMS) in the NAA and entered in AQS. Data from air monitors operated by state/local/tribal agencies in compliance with the EPA monitoring requirements must be submitted to AQS. Monitoring agencies annually certify that these data are accurate to the best of their knowledge. Accordingly, the EPA relies primarily on data in AQS when determining the attainment status of areas.

A determination that an area attained by their attainment date is not equivalent to a redesignation, and the state must still meet the statutory requirements for redesignation in order to be redesignated to attainment.

B. Monitoring Network and Data Considerations

Determining whether an area has attained the NAAQS pursuant to CAA section 188(b)(2) is based on monitored air quality data. Thus, the validity of a determination of attainment depends in part on whether the monitoring network adequately measures ambient PM2.5 levels in the NAA.

The UDAQ is the governmental agency with the authority and responsibility under the State's laws for collecting ambient air quality data for the Salt Lake City and Provo NAAs. UDAQ submits annual monitoring network plans (AMNPs) to the EPA. These plans document the establishment and maintenance of the air monitoring network, as required under 40 CFR part 58. With respect to PM2.5 monitoring in the Salt Lake City and Provo NAAs, the EPA has found that UDAQ's AMNPs met the applicable requirements under 40 CFR part 58 for the relevant period, 2017-2019. Also, UDAQ annually certifies that the data they submit to AQS are quality assured.

The UDAQ operated PM2.5 SLAMS monitors during the 2017-2019 period within the Salt Lake City and Provo PM2.5 NAAs. The UDAQ operated five PM2.5 SLAMS monitors throughout the 2017-2019 period within the Salt Lake City PM2.5 NAA: Bountiful; Rose Park; Hawthorn; Herrimam #3; and Erda.² Additionally, UDAQ operated two PM2.5 SLAMS monitors throughout the 2017-2019 period within the Provo, UT PM2.5 NAA: Lindon and Spanish Fork.³

² The Salt Lake City, UT NAA had two monitors shutdown due to the loss of each site and UDAQ is working to re-establish new sites. These monitors are Brigham City (49-003-0003), which shutdown in June 2019, and Ogden 2 (49-057-0002), which shutdown in May 2019. A new site for Ogden 2 was established in Weber County (Harrisville, 49-057-1003) in September 2019. UDAQ is still working with Box Elder County on new potential sites.

³ The Provo, UT NAA had one monitor (North Provo, 49-049-0002) shutdown the end of 2018 due to safety issues at the site and UDAQ is working to re-establish a new site.

On October 27, 2017, March 20, 2019 and April 29, 2020, the EPA approved Utah's 2017, 2018 and 2019 AMNPs, respectively, and on April 10, 2018, February 1, 2019 and February 24, 2020, the UDAQ submitted letters to certify the 2017, 2018 and 2019 air quality data.

Based on our review, the PM2.5 monitoring network for the Salt Lake City and Provo, NAAs meets the requirements stated above and is therefore adequate for use in determining whether the areas attained the 2006 24-hour PM2.5 NAAQS.

C. Evaluation of Current Attainment

As discussed above, the EPA's evaluation on whether the Salt Lake City and Provo PM2.5 NAAs have attained the 2006 24-hour PM2.5 NAAQS are based on our review of the monitoring data, and takes into account the adequacy of the PM2.5 monitoring network in the NAAs and the reliability of the data collected by the network as discussed in the previous section of this document.

The EPA reviewed the PM2.5 ambient air monitoring data from the Salt Lake City and Provo, NAA monitors. These monitoring sites are consistent with the requirements contained in 40 CFR part 50, as recorded in the EPA AQS database for the NAAs. For purposes of determining attainment by the December 31, 2019 Serious attainment date, the EPA determined that UDAQ met the minimum monitoring site requirements under 40 CFR part 58 where the Provo NAA is required to have at least two monitors and the Salt Lake City NAA is required to have at least three monitors. The design values for the 2006 24-hour PM2.5 NAAQS for the years 2017-2019 at the monitors in the Salt Lake City and Provo NAAs are less than the standard of 35 µg/m³. See Table 1 below for the annual 98th percentiles and 3-year design value for the 2017-2019 monitoring period. On the basis of this review, we are proposing to determine that the Salt Lake City and Provo NAAs attained the 2006 24-hour PM2.5 NAAQS by the Serious area attainment date.

Table 1—Salt Lake City and Provo NAAs 2017-2019 24-Hour PM2.5 Air Quality Data
[µg/m³]
NAA | Monitor site | Monitor ID | 98th percentile values: 2017 | 98th percentile values: 2018 | 98th percentile values: 2019 | 2017-2019 design value
Salt Lake City | Bountiful | 49-011-0004 | 35.2 | 25.7 | 19.3 | 27
| Rose Park | 49-035-3010 | 32.4 | 29.2 | 27.9 | 30
| Hawthorn | 49-035-3006 | 35.7 | 26.2 | 27.3 | 30
| Herrimam #3 | 49-035-3013 | 28.2 | 29.0 | 18.8 | 25
| Erda | 49-045-0004 | 20.9 | 30.6 | 22.9 | 25
Provo | Lindon | 49-049-4001 | 27.6 | 49.6 | 17.5 | 32
| Spanish Fork | 49-049-5010 | 27.6 | 49.6 | 17.5 | 32

III. Proposed Action

Pursuant to CAA section 188(c)(2), the EPA is proposing to determine, based on the most recent 3 years (2017-2019) of valid data,⁴ that the Salt Lake City and Provo NAAs have attained the 2006 primary and secondary 24-hour PM2.5 NAAQS by the December 31, 2019 attainment date.

⁴ Meeting the requirements of 40 CFR part 50, appendix N, and 40 CFR part 58.

IV. Statutory and Executive Order Reviews

This action proposes to make a determination of attainment based on air quality and thus would not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the proposed rule does not apply on any Indian reservation land or in any other area where EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Carbon monoxide, Greenhouse gases, Incorporation by reference, Intergovernmental relations, Lead, Nitrogen dioxide, Ozone, Particulate matter, Reporting and recordkeeping requirements, Sulfur oxides, Volatile organic compounds.

Authority: 42 U.S.C. 7401 et seq.

Dated: May 29, 2020.
Gregory Sopkin,
Regional Administrator, EPA Region 8.

[FR Doc. 2020-12074 Filed 6-5-20; 8:45 am]

BILLING CODE 6560-50-P